DEPARTMENT OF COMMERCE

Office of the Secretary

Agency Information Collection Activities; Submission to the Office of Management and Budget (OMB) for Review and Approval; Comment Request; Generic for Funding Opportunity Announcements and Related Forms

AGENCY: Office of the Secretary, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before July 1, 2024.

ADDRESSES: Interested persons are invited to submit written comments by mail to the Department PRA Clearance Officer, Office of the Under Secretary for Economic Affairs, at PRAcomments@doc.gov. Do not submit Confidential Business Information or otherwise sensitive or protected information.

FOR FURTHER INFORMATION CONTACT: Requests for additional information or specific questions related to collection activities should be directed to the Department PRA Clearance Officer, Office of the Under Secretary for Economic Affairs, at 1401 Constitution Avenue NW, Washington, DC 20230 or PRAcomments@doc.gov.

SUPPLEMENTARY INFORMATION:

I. Abstract

This is a request for a new generic clearance to collect data to help to ensure grants, cooperative agreements and other Federal financial assistance programs are awarded to applicants best suited to perform the functions of the awards.

Periodically Commerce solicits grant applications on http://grants.gov by issuing a Funding Opportunity Announcement, Request for Applications, Notice of Funding Announcement, Notice of Solicitation of Applications, Grants.gov announcement, or other funding announcement type. Applicants are generally required to perform two pre-award steps The first part of Commerce grant applications consists of submitting the application form(s), which includes the Standard Form 424, Application for Federal Assistance and may include additional standard grant application forms. The second part of a grant application usually requires a technical proposal demonstrating the applicant's capabilities in accordance with a statement of work or selection criteria and other related information as specified in the funding announcement. Following the grant award, the grant awardee may also be required to provide progress reports or additional documents.

In addition to grants and agreements, there are other types of funding announcements. Commerce agencies announce new Federal financial assistance programs in the Federal Register in a Notice of Funding Availability (NOFA) or other types of funding or program announcements. Generally, the applicants need to apply for financial assistance under the new program. The agencies generally require application forms and related forms for the applicants to apply for Federal financial assistance.

II. Method of Collection

Program offices may use various methods of collection. This could include web pages, email, mail, Grants.gov or other online data management systems.

III. Data

OMB Control Number: 0690-NEW.

Form Number(s): Varies or None.

Type of Review: Regular submission. This is a new information collection.

Affected Public: Individuals or households; Private Sector; Not-for-profit institutions; State, Local, or Tribal government.

Estimated Number of Respondents: 10,000.

Estimated Time per Response: Varies.

Estimated Total Annual Burden Hours: 100,000.

Respondent's Obligation: Voluntary or Mandatory.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-09394 Filed 4-30-24; 8:45 am]

BILLING CODE 3510-17-P